SECURITIES AND EXCHANGE COMMISSION

[Release No. 34-44453; File No. SR-ISE-01-03]

Self-Regulatory Organizations; International Securities Exchange, LLC; Order Granting Approval to Proposed Rule Change Relating to Market Maker Block Transactions

June 20, 2001.

On January 12, 2001, the International Securities Exchange (“ISE”) filed with the Securities and Exchange Commission (“Commission”), pursuant to Section 19(b)(1) of the Securities Exchange Act of 1934 (“Act”) ¹ and Rule 19b-4 thereunder,² a proposed rule change to permit market makers to enter block-size orders into the ISE's Block Order mechanism.

¹ 15 U.S.C. 78s(b)(1).

² 17 CFR 240.19b-4.

The proposed rule change was published for comment in the Federal Register on February 8, 2001.³ The Commission received no comments on the proposal.

³ See Securities Exchange Act Release No. 43290 (February 2, 2001), 66 FR 9613.

The Commission finds that the proposed rule change is consistent with the requirements of the Act and the rules and regulations thereunder applicable to a national securities exchange ⁴ and, in particular, the requirements of Section 6 of the Act ⁵ and the rules and regulations thereunder. The Commission finds specifically that the proposed rule change is consistent with Section 6(b)(5) of the Act ⁶ because it allows ISE market makers to participate in the Block Order Mechanism to the same extent as Electronic Access Members and thus to more easily hedge or liquidate positions resulting from their market making activities on the ISE.

⁴ In approving this proposed rule change, the Commission notes that it has considered the proposed rule's impact on efficiency, competition, and capital formation. 15 U.S.C. 78c(f).

⁵ 15 U.S.C. 78f.

⁶ 15 U.S.C. 78f(b)(5).

It is therefore ordered, pursuant to Section 19(b)(2) of the Act,⁷ that the proposed rule change (File No. SR-ISE-01-03) be, and it hereby is, approved.

⁷ 16 U.S.C. 78s(b)(2).

For the Commission, by the Division of Market Regulation, pursuant to delegated authority.⁸

⁸ 17 CFR 200.30-3(a)(12).

Margaret H. McFarland,
Deputy Secretary.

[FR Doc. 01-15945 Filed 6-22-01; 8:45 am]

BILLING CODE 8010-01-M